HARRY S TRUMAN SCHOLARSHIP FOUNDATION

Notice of Intent To Extend an Information Collection

AGENCY: Harry S Truman Scholarship Foundation.

ACTION: Submission for OMB review; comment request.

SUMMARY: The Truman Scholarship Foundation [Foundation] has submitted the following information collection requirement to OMB for review and clearance under the Paperwork Reduction Act of 1995, Public Law 104-13. This is the second notice for public comment: the first was published in the Federal Register (June 27, 2003 (Volume 68, Number 124), Page 38341), and no comments were received. The Foundation is forwarding the proposed renewal submission to OMB for clearance simultaneously with the publication of this second notice.

Comments: Comments regarding (a) whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology should be addressed to: Office of Information and Regulatory Affairs of OMB, Attention: Desk Officer for the Harry S Truman Scholarship Foundation, 725 17th Street, NW., Room 10235, Washington, DC 20503, and to Louis H. Blair, Executive Secretary, Harry S Truman Scholarship Foundation, 712 Jackson Place, NW., Washington, DC 20005, or send e-mail to lblair@truman.gov.

DATES: Comments regarding this information collection are best assured of having their full effect if received on or before September 28, 2003. Copies of the submission may be obtained at 202-395-7434.

FOR FURTHER INFORMATION CONTACT: Contact Louis H. Blair, Executive Secretary, Harry S Truman Scholarship Foundation, 712 Jackson Place, NW., Washington, DC 20006; telephone 202-395-4831; or send e-mail to lblair@truman.gov. You also may obtain a copy of the data collection instrument and instructions from Mr. Blair.

The Foundation may not conduct a collection of information unless the collection displays a currently valid OMB control number and the agency informs potential persons who are to respond to the collection of information that such person are not required to respond to the collection of information unless it displays a currently valid OMB control number.

SUPPLEMENTARY INFORMATION: Title of Collection: Truman Scholarship Application.

OMB Approval Number: 3200-0004.

Expiration Date of Approval: 08/03.

Type of Request: Intent to seek approval to extend an information collection for three years.

Proposed Project: The Foundation has been providing scholarships since 1977 in compliance with Public Law 93-642. This data collection instrument is used to collect essential information to enable the Truman Scholarship Finalists Selection Committee to determine whom to invite to interviews. It is used by Regional Review Panels as essential background information on the Finalists whom they interview and ultimately the Truman Scholars they select. A total response rate of 100% was provided by the 635 candidates who applied for Year 2003 Truman Scholarships.

Estimate of Burden: The Foundation estimates that, on average, 50 hours per respondent will be required to complete the application, for a total of 35,000 hours for all respondents.

Respondents: Individuals.

Estimated Number of Responses: 700.

Estimated Total Annual Burden on Respondents: 35,000 hours.

Dated: August 25, 2003.
Louis H. Blair,
Executive Secretary.

[FR Doc. 03-22203 Filed 8-28-03; 8:45 am]

BILLING CODE 6820-AD-P